DEPARTMENT OF ENERGY

Federal Energy Regulatory Commission

Combined Notice of Filings #2

Take notice that the Commission received the following electric rate filings:

Docket Numbers: ER13-860-000.

Applicants: PJM Interconnection, L.L.C.

Description: Original Service Agreement No. 3482; Queue No. W3-080 to be effective 1/9/2013.

Filed Date: 2/1/13.

Accession Number: 20130201-5043.

Comments Due: 5 p.m. ET 2/22/13.

Docket Numbers: ER13-861-000.

Applicants: PJM Interconnection, L.L.C.

Description: Notice of Cancellation of Original SA No. 3451 in Docket No. ER13-715-000 to be effective 1/3/2013.

Filed Date: 2/1/13.

Accession Number: 20130201-5045.

Comments Due: 5 p.m. ET 2/22/13.

Docket Numbers: ER13-862-000.

Applicants: PJM Interconnection, L.L.C.

Description: Original Service Agreement No. 3481; Queue No. X4-015 to be effective 1/7/2013.

Filed Date: 2/1/13.

Accession Number: 20130201-5046.

Comments Due: 5 p.m. ET 2/22/13.

Docket Numbers: ER13-863-000.

Applicants: Arizona Public Service Company.

Description: APS and SDG&E Kofa Capacitor Bank Project Agreement, Rate Schedule No. 264 to be effective 4/1/2013.

Filed Date: 2/1/13.

Accession Number: 20130201-5067.

Comments Due: 5 p.m. ET 2/22/13.

Docket Numbers: ER13-864-000.

Applicants: American Transmission Systems, Incorporation, PJM Interconnection, L.L.C.

Description: ATSI submits First Revised SA No. 2852 among AMP and FirstEnergy Affiliates to be effective 8/1/2012.

Filed Date: 2/1/13.

Accession Number: 20130201-5093.

Comments Due: 5 p.m. ET 2/22/13.

Docket Numbers: ER13-865-000.

Applicants: International Transmission Company.

Description: International Transmission Company submits Compliance Refund Report [9/30/2012 Commission Order in PA10-13].

Filed Date: 2/1/13.

Accession Number: 20130201-5095.

Comments Due: 5 p.m. ET 2/22/13.

Docket Numbers: ER13-866-000.

Applicants: PJM Interconnection, L.L.C.

Description: Notice of Cancellation of Original SA No. 2842 in Dkt No. ER11-3348-000 to be effective 1/9/2013.

Filed Date: 2/1/13.

Accession Number: 20130201-5107.

Comments Due: 5 p.m. ET 2/22/13.

Docket Numbers: ER13-867-000.

Applicants: Michigan Electric Transmission Company, LLC.

Description: Michigan Electric Transmission Company, LLC submits Compliance Refund Report [9/30/2012 Commission Order in PA10-13].

Filed Date: 2/1/13.

Accession Number: 20130201-5108.

Comments Due: 5 p.m. ET 2/22/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 1, 2013.
Nathaniel J. Davis, Sr.,
Deputy Secretary.

[FR Doc. 2013-03156 Filed 2-11-13; 8:45 am]

BILLING CODE 6717-01-P